NATIONAL AERONAUTICS AND SPACE ADMINISTRATION

[Notice 12-056]

NASA Advisory Council; Technology and Innovation Committee; Meeting Amendment

AGENCY: National Aeronautics and Space Administration.

ACTION: Notice of meeting.

Reference: Notice 12-054, published in the Federal Register on Thursday, June 28, 2012 (Vol. 77, No. 125, page 38678).

SUMMARY: This is an amendment of Federal Register Notice 12-054 published on June 28, 2012, to provide additional information. In accordance with the Federal Advisory Committee Act, as amended, the National Aeronautics and Space Administration (NASA) announces a meeting of the Technology and Innovation Committee of the NASA Advisory Council (NAC).

DATES: Tuesday, July 24, 2012, 8:00 a.m. to 2:50 p.m. Local Time.

ADDRESSES: NASA Goddard Space Flight Center (GSFC), Building 8, Management Conference Center, 8800 Greenbelt Road, Greenbelt, Maryland 20771.

FOR FURTHER INFORMATION CONTACT: Mr. Mike Green, Office of the Chief Technologist, NASA Headquarters, Washington, DC 20546, (202) 358-4710, fax (202) 358-4078, or g.m.green@nasa.gov.

SUPPLEMENTARY INFORMATION: The meeting will be open to the public up to the capacity of the room. This meeting is also available telephonically and by WebEx. Any interested person may call the USA toll free conference call number (866) 804-6184, pass code 3472886, to participate in this meeting by telephone. The WebEx link is https://nasa.webex.com/, the meeting number is 997 752 106, and the password is NACTI@724.

The agenda for the meeting includes the following topics:

—Office of the Chief Technologist Update.

—Status of NASA's Space Technology Program.

—Briefing and Review of NASA's Draft Strategic Space Technology Investment Plan.

—Update on NASA's Technology Transfer and Commercialization Efforts.

—Overview of Technology Activities at NASA Goddard Space Flight Center.

It is imperative that the meeting be held on these dates to accommodate the scheduling priorities of the key participants. All attendees will be requested to sign a register and to comply with NASA security requirements. Visitors must show a valid State or Federal issued picture ID, green card, or passport, before receiving an access badge to enter into GSFC and must state that they are attending the NAC's Technology and Innovation Committee meeting in Building 8. All U.S. citizens and green card holders desiring to attend must provide their full name, company affiliation (if applicable), and citizenship to Mike Green via email at g.m.green@nasa.gov or by telephone at (202) 358-4710 no later than close of business on July 16, 2012. Foreign Nationals must provide the following information: full name, gender, date/place of birth; citizenship, home address, visa information (number, type, expiration date), passport information (number, country of issue, expiration date), employer/affiliation information (name of institution, title/position, address, country of employer, telephone, email address), and an electronically scanned or faxed copy of their passport and visa to Mike Green via email at g.m.green@nasa.gov or by fax at (202) 358-4078 no later than close of business on July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Patricia D. Rausch,
Advisory Committee Management Officer, National Aeronautics and Space Administration.

[FR Doc. 2012-16781 Filed 7-9-12; 8:45 am]

BILLING CODE 7510-13-P